DEPARTMENT OF HEALTH AND HUMAN SERVICES

Substances Abuse and Mental Health Services Administration

Agency Information Collection Activities: Submission for OMB Review; Comment Request

Periodically, the Substance Abuse and Mental Health Services Administration (SAMSHA) will publish a summary of information collection requests under OMB review, in compliance with the Paperwork Reduction Act (44 U.S.C. Chapter 35). To request a copy of these documents, call the SAMSHA Reports Clearance Officer on (240) 276-1243.

Project: Community Mental Health Services Block Grant Application Guidance and Instruction, FY 2008-2010 (OMB No. 0930-0168)—Revisions

Sections 1911 through 1920 of the Public Health Service Act (42 U.S.C. 300x through 300x-9) provide for annual allotments to assist States to establish or expand an organized, community-based system of care for adults with serious mental illnesses and children with serious emotional disturbances. Under these provision of the law, States may receive allotments only after an application is submitted and approved by the Secretary of the Department of Health and Human Services.

For the FY 2008-2010 Community Mental Health Services Block Grant application cycle, SAMSHA will provide States guidance and instructions to guide development of comprehensive State applications/plans and implementation reports. Proposed revisions to the guidance include:

(1) The integration of mental health transformation as a guiding principle in the development of State mental health plans. State plans for FY 2008-2010 will describe State mental health transformation efforts and activities within the context of the five (5) legislative criteria, identify mental health transformation activities funded by the MHBG and other State funding sources, identify activities of the State mental health planning council that contribute to and support State transformation efforts, include one State transformation performance indicator in the plan, and include a description of the services provided to older adults under criterion 4 of the State's plan.

(2) The introduction of the Web Block Grant Application System (WebBGAS). WebBGAS enables States to submit applications/plans, and implementation reports electronically thus reducing the burden of paperwork required for submission, revision, and reporting purposes. In FY 2008, all States and Territories will be encouraged to submit State plans using WebBGAS. Other advantages to using WebBGAS include:

• Eliminating redundancy in data entry by pre-populating the States' previous year data in the current year's plans and implementation reports.

• Standardizing Mental Health Block Grant data for reporting and quantitative analysis.

• Allowing the States' mental health planning councils to have access to state plans and implementation reports throughout the FY as a means to enable councils to meet their Federal mandate of reviewing the plans and providing recommendations to the State.

• Adhering to the Federal Government's e-governments and e-grants initiatives, where applicable.

(3) A requirement for States to report nine CMHS National Outcome Measures (NOMS) for mental health. All nine measures are derived from tables in the Uniform Reporting System (URS) which was developed in collaboration with the States. Four (4) of the nine measures were established, in concert with OMB PART, to support the long-term goals of the Mental Health Block Grant program and SAMSHA's Government Results and Performance Act (GPRA) measures. The nine CMHS measures are:

• Increased access to services

• Reduced utilization of psychiatric inpatient beds for 30 and 180 days

• Number of evidenced-based practices and number of persons served in these programs

• Client perception of care

• Increased/retained employment or returned to/stayed in school

• Decreased criminal justice involvement

• Increased stability in housing

• Increased social supports and social connectedness, and

• Improved level of functioning.

Two of the NOMS, Increased Social Supports and Social Connectedness, and Improved Functioning, are currently under development at SAMSHA. States that are unable to report data on these or other indicators will be required to describe their current reporting capacity and efforts underway to make collection of the data possible.

(4) Revisions to tables in the Uniform Reporting System (URS). Since FY 2001, States have reported annual data on the public mental health system to the MHBG Program through 21 tables in the URS. For the past three years, CMHS worked collaboratively with States, using the Data Infrastructure Grant (DIG) process, to refine the data and make reporting more meaningful to both States and CMHS. This effort resulted in a list of revisions to the basic and development tables in the FY 2005-2007 MHBG guidance. The revisions to the URS tables are described below:

Revisions to Tables in the Uniform Reporting System
Table description: Table No. | Table description: Table name | Table description: Change | Table description: Proposed change
Table 1 | Profile of State Population by Diagnosis | No Change |
Table 2 | Total Unduplicated Served by Age, Gender & Race | Minor | Combine Age 0-3 with Age 4-12.
Table 3 | Total Served by Setting, by Age & Gender | No Change |
Table 4 | Employment | Minor | Add Optional Table 4a. Reporting of Employment Status by 5 Diagnostic Groupings.
Table 5 | Medicaid Status | No Change |
Table 6 | Profile of Client Flow and Turnover | Minor | Add Column for Length of Stay for clients in facility more than 1 year.
Table 7 | State MH Expenditures and Revenues | No Change |
Table 8 | Profile of Community MHBG Expenditures | No Change |
Table 9 | Public Mental Health Service System Inventory List (Deleted in 2005) | Major | New table added, “Social Connectedness and Improved Functioning” for SAMHSA's newest NOMS.
Table 10 | Profile of Agencies receiving MHBG Funds | No Change |
Table 11 | Consumer Evaluation of Care* | Minor | Add revisions to table and questions to clarify the survey instrument and methodology used to collect data for this domain if the recommended survey was not used.
Table 12 | State Mental Health Agency Profile | No Change |
Table 13 | Untreated Prevalence of Mental Illness | No Change | Continue as developmental until refined by DIG Workgroup.
Table 14 | Adults with SMI & SED served by Age, gender, Race, & Ethnicity | Minor | Combine Age 0-3 with Age 4-12.
Table 15 | Living Situation Profile | No Change |
Table 16 | EBPs | Minor | Add two questions at the end of each EBP: (1) Did the State use the SAMHSA Toolkit to guide implementation? (2) Has staff been specifically trained to implement the EBP?
Table 17 | EBPs | Minor | Add two questions at the end of each EBP: (1) Did the State use the SAMHSA Toolkit to guide implementation? (2) Has staff been specifically trained to implement the EBP?
Table 18 | Use of New Generation Atypical Antipsychotics | No Change |
Table 19 | Outcomes: Criminal Justice & School Attendance | Minor | Add new questions for two CMHS NOMS: Arrests, and School Attendance.
Table 20 | 30 and 180 day state hospital readmissions | Minor | Combine Age 0-3 with Age 4-12.
Table 21 | 30 and 180 day readmission to any psych bed | Minor | Combine Age 0-3 with Age 4-12.

The future of the SAMHSA/CMHS State mental data reporting program continues to evolve with a related plan to implement a State Client level Initiative project with a few States to test the feasibility of implementing client level reporting in the States. Activities of this pilot in the next three years will include: (1) Identifying and documenting the States' most promising approaches to the collection of client-level data; (2) developing recommendations for expanding client-level data collection systems to incorporate the NOMs; and (3) pilot testing the most promising approaches with other interested States to determine their feasibility. SAMHSA expects that the results of this effort will improve the ability of States to report unduplicated client-level outcomes comparing Time 2 to Time 1. These data are expected to support the CMHS Block Grant in future PART reviews.

The following table summarizes the annual burden for the revised application.

Application | Number of respondents | Responses/ respondent | Burden response (hrs) | Total burden hours
Plan:
1 year | 44 | 1 | 180 | 7,920
2 year | 6 | 1 | 150 | 900
3 year | 9 | 1 | 110 | 990
Implementation Report | 59 | 1 | 75 | 4,425
URS Tables | 59 | 1 | 40 | 2,360
Total | 59 |  |  | 16,595

Written comments and recommendations concerning the proposed information collection should be sent by July 9, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: June 1, 2007.
Elaine Parry,
Acting Director, Office of Program Services.

[FR Doc. 07-2851 Filed 6-6-07; 8:45 am]

BILLING CODE 4162-20-M